DEPARTMENT OF TRANSPORTATION

Office of the Secretary

Aviation Proceedings, Agreements Filed the Week Ending August 13, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0146.

Date Filed: August 9, 2011.

Parties: Members of the International Air Transport Association.

Subject: PTC COMP Mail Vote 679, Resolution 024d, Currency Names, Codes, Rounding Units and Acceptability of Currencies—Jordan, Intended Effective Date: 1 June 2011.

(Memo 1622), PTC COMP Mail Vote 679, Resolution 024d, Currency Names, Codes, Rounding Units and Acceptability of Currencies—Jordan, Intended Effective Date: 1 June 2011, Implementation Date: 1 August 2011.

Docket Number: DOT-OST-2011-0147.

Date Filed: August 9, 2011.

Parties: Members of the International Air Transport Association.

Subject: PTC COMP Mail Vote 680, Resolution 024a, Establishing Passenger Fares and Related Charges, Lithuania, Intended Effective Date: 1 September 2011.

Renee V. Wright,
Program Manager, Docket Operations, Federal Register Liaison.

[FR Doc. 2011-22397 Filed 8-31-11; 8:45 am]

BILLING CODE 4910-9X-P